DEPARTMENT OF THE INTERIOR

Bureau of Land Management

[LLNV912. L10200000.PH0000 LXSS006F0000 261A; 14-08807; MO# 4500063093]

Notice of Public Meetings: Northeastern Great Basin Resource Advisory Council, Nevada

AGENCY: Bureau of Land Management, Interior.

ACTION: Notice of public meetings.

SUMMARY: In accordance with the Federal Land Policy and Management Act (FLPMA) and the Federal Advisory Committee Act of 1972 (FACA), the U.S. Department of the Interior, Bureau of Land Management (BLM) Nevada Northeastern Great Basin Resource Advisory Council (RAC), will hold two field meetings in Nevada in fiscal year 2014 and one meeting in fiscal year 2015. All meetings are open to the public.

Dates and Times: May 15 at the BLM Battle Mountain District Office, 50 Bastian Rd., Battle Mountain, Nev.; Aug. 28 at the BLM Elko District Office, 3900 E. Idaho St., Elko, Nevada; Oct. 16 at the Ely District Office, 702 N. Industrial Way, Ely, Nev. Approximate meeting times are 8 a.m. to 4 p.m. All meetings will include a public comment period. Public notice, along with meeting agendas, will be given 15 days prior to the meeting date.

FOR FURTHER INFORMATION CONTACT: Lesli Ellis-Wouters, Public Affairs Officer, Elko District Office, 3900 E. Idaho St., Elko, NV 89801. Telephone: (775) 753-0386. Email: lellis@blm.gov

SUPPLEMENTARY INFORMATION: The 15-member Council advises the Secretary of the Interior, through the BLM, on a variety of planning and management issues associated with public land management in Nevada. Topics for discussion at each meeting will include, but are not limited to:

• May 15 (Battle Mountain)—Field meeting: Rangeland health and drought; Sage-Grouse habitat.

• Aug. 28 (Elko)—Field meeting: Rangeland health and drought.

• Oct. 16 (Ely)—Review the Final EIS for Greater Sage-Grouse.

Managers' reports of field office activities will be given at each meeting. The Council may raise other topics at any of the three planned meetings.

Final agendas will be posted on-line at the BLM Northeastern Great Basin Resource Advisory Council Web site at http://www.blm.gov/nv/st/en/res/resource_advisory.html and will be published in local and regional media sources at least 10 days before each meeting. Individuals who need special assistance such as sign language interpretation or other reasonable accommodations, or who wish to receive a copy of each agenda, may contact Lesli Ellis-Wouters no later than 10 days prior to each meeting.

Lisa Ross,
Acting Deputy Director.

[FR Doc. 2014-06626 Filed 3-25-14; 8:45 am]

BILLING CODE 4310-HC-P